DEPARTMENT OF TRANSPORTATION

Surface Transportation Board

[Ex Parte No. 333]

Sunshine Act Meeting

Time and Date: 10 a.m., May 3, 2005.

Place: The Board's Hearing Room, Surface Transportation Board, 1925 K Street, NW., Washington, DC 20423.

Status: The Board will meet to discuss among themselves the following agenda items. Although the conference is open for public observation, no public participation is permitted.

Matters to be Considered: STB Finance Docket No. 34662, CSX Transportation, Inc.—Petition for Declaratory Order.

STB Finance Docket No. 34391, New England Transrail, LLC, d/b/a Wilmington and Woburn Terminal Railroad Co.—Construction, Acquisition, and Operation Exemption—in Wilmington and Woburn, MA.

STB Finance Docket No. 34509, Kaw River Railroad, Inc.—Acquisition and Operation Exemption—The Kansas City Southern Railway Company.

STB Docket No. AB-55 (Sub-No. 631X), CSX Transportation, Inc.—Abandonment Exemption—in Summit County, OH.

Embraced Case: STB Docket No. 42086, Terminal Warehouse, Inc. v. CSX Transportation, Inc.

STB Docket No. 42057, Public Service Company of Colorado d/b/a Xcel Energy v. BNSF Railway Company.

STB Docket No. AB-33 (Sub-No. 132X), Union Pacific Railroad Company—Abandonment Exemption—in Rio Grande and Mineral Counties, CO.

STB Finance Docket No. 34376, City of Creede, CO—Petition for Declaratory Order.

STB Docket No. AB-290 (Sub-No. 168X), Norfolk and Western Railway Company—Abandonment Exemption—Between Kokomo and Rochester in Howard, Miami, and Fulton Counties, IN.

STB Finance Docket No. 34609, State of Washington, Department of Transportation—Acquisition Exemption—Palouse River and Coulee City Railroad, Inc.

Contact Person for More Information: A. Dennis Watson, Office of Congressional and Public Services, Telephone: (202) 565-1596 FIRS: 1-800-877-8339.

Dated: April 26, 2005.
Vernon A. Williams,
Secretary.

[FR Doc. 05-8668 Filed 4-27-05; 10:58 am]

BILLING CODE 4915-01-P